DEPARTMENT OF HOMELAND SECURITY

Coast Guard

33 CFR Part 117

[Docket No. USCG-2018-0431]

Drawbridge Operation Regulation; Sacramento River, Freeport, CA

AGENCY: Coast Guard, DHS.

ACTION: Notice of deviation from drawbridge regulation.

SUMMARY: The Coast Guard has issued a temporary deviation from the operating schedule that governs the Sacramento County highway bridge across the Sacramento River, mile 46.0, at Freeport, CA. The deviation is necessary to allow participants in the AMGEN Tour of California bicycle race to cross the drawspan safely and without interruption. This deviation allows the bridge to remain in the closed-to-navigation position during the deviation period.

DATES: This deviation is effective from 11 a.m. through 3 p.m. on May 17, 2018.

ADDRESSES: The docket for this deviation, USCG-2018-0431, is available at http://www.regulations.gov. Type the docket number in the “SEARCH” box and click “SEARCH.” Click on Open Docket Folder on the line associated with this deviation.

FOR FURTHER INFORMATION CONTACT: If you have questions on this temporary deviation, call or email Carl T. Hausner, Chief, Bridge Section, Eleventh Coast Guard District; telephone 510-437-3516, email Carl.T.Hausner@uscg.mil.

SUPPLEMENTARY INFORMATION: Sacramento County has requested a temporary change to the operation of the Sacramento County highway bridge, mile 46.0, over the Sacramento River, at Freeport, CA. The drawbridge navigation span provides a vertical clearance of 29 feet above Mean High Water in the closed-to-navigation position. The draw operates as required by 33 CFR 117.189(b). Navigation on the waterway is commercial and recreational.

The drawspan will be secured in the closed-to-navigation position from 11 a.m. through 3 p.m. on May 17, 2018, to allow the participants in the AMGEN Tour of California bicycle race to cross the drawspan safely and without interruption. This temporary deviation has been coordinated with the waterway users. No objections to the proposed temporary deviation were raised.

Vessels able to pass through the bridge in the closed position may do so at any time. The bridge will be able to open for emergencies and there is no immediate alternate route for vessels to pass. The Coast Guard will also inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: May 9, 2018.
Carl T. Hausner,
District Bridge Chief, Eleventh Coast Guard District.

[FR Doc. 2018-10595 Filed 5-17-18; 8:45 am]

BILLING CODE 9110-04-P